Title 3—

The President

Proclamation 7755 of February 2, 2004

National Consumer Protection Week, 2004

By the President of the United States of America

A Proclamation

Every day, America's consumers conduct millions of financial transactions. During National Consumer Protection Week, we recognize those who help to safeguard our citizens from consumer fraud, and we encourage all Americans to be informed consumers. This year's theme, “Financial Literacy: Earning a Lifetime of Dividends,” highlights the importance of financial education to consumer protection.

The Federal Government provides many educational resources and programs to help protect Americans against fraud by giving them information about their options in the marketplace. The Federal Trade Commission and more than 100 other Federal agencies have collaborated on a website, www.consumer.gov, which provides helpful information ranging from how credit ratings work to how to buy a new car. The Department of the Treasury has also established an Office of Financial Education to oversee inter agency efforts to coordinate and expand financial education initiatives.

In addition, my Administration is working to expand financial literacy for potential homeowners. We have doubled the funds for housing and financial counseling services, including those run by faith-based and community groups, and we are distributing millions of dollars in grants to national, State, and local organizations that promote home buyer education and counseling. The Department of Housing and Urban Development is also collaborating with the Federal Deposit Insurance Corporation to expand the “Money Smart” financial education program in public housing. Education about the home-buying process not only protects our citizens from consumer fraud, but also empowers them to achieve their dreams.

NOW, THEREFORE, I, GEORGE W. BUSH, President of the United States of America, by virtue of the authority vested in me by the Constitution and laws of the United States, do hereby proclaim February 1 through February 7, 2004, as National Consumer Protection Week. I call upon government officials, industry leaders, and consumer advocates to provide consumers with information about the lifetime benefits of financial literacy, and I encourage all citizens to take advantage of the resources that can help them become responsible consumers, savers, and investors.

IN WITNESS WHEREOF, I have hereunto set my hand this second day of February, in the year of our Lord two thousand four, and of the Independence of the United States of America the two hundred and twenty-eighth.

B

[FR Doc. 04-2667

Filed 2-4-04; 10:12 am]

Billing code 3195-01-P